DEPARTMENT OF ENERGY

Federal Energy Regulatory Commission

[Docket No. RP01-544-000]

Williston Basin Interstate Pipeline Company; Notice of Tariff Filing and Annual Charge Adjustment

September 6, 2001.

Take notice that on August 31, 2001, Williston Basin Interstate Pipeline Company (Williston Basin) tendered for filing as part of its FERC Gas Tariff, Second Revised Volume No. 1 and Original Volume No. 2, the following tariff sheets, to become effective October 1, 2001:

Second Revised Volume No. 1

Forty-Third Revised Sheet No. 15

Forty-Fourth Revised Sheet No. 16

Forty-Second Revised Sheet No. 18

Thirty-Eighth Revised Sheet No. 21

Original Volume No. 2

Eighty-Seventh Revised Sheet No. 11B

Williston Basin states that the filing reflects a revision to the Federal Energy Regulatory Commission's Annual Charge Adjustment (ACA) unit charge amount pursuant to the Commission's Statement of Annual Charges under 18 CFR part 382 and Section 41 of the General Terms and Conditions of Williston Basin's FERC Gas Tariff, Second Revised Volume No. 1. The filing reflects the Commission-approved Annual Charge Adjustment unit charge of $.0021 per dth.

Any person desiring to be heard or to protest said filing should file a motion to intervene or a protest with the Federal Energy Regulatory Commission, 888 First Street, NE., Washington, DC 20426, in accordance with Sections 385.214 or 385.211 of the Commission's Rules and Regulations. All such motions or protests must be filed on or before September 13, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22882 Filed 9-11-01; 8:45 am]

BILLING CODE 6717-01-P